DEPARTMENT OF ENERGY

Federal Energy Regulatory Commission

[Docket No. RP97-288-022]

Transwestern Pipeline Company; Notice of Negotiated Rates and Tariff Filing

July 3, 2002.

Take notice that on June 28, 2002, Transwestern Pipeline Company (Transwestern) tendered on filing as part of its FERC Gas Tariff, Second Revised Volume No. 1, the following tariff sheets to become effective July 1, 2002:

Seventeenth Revised Sheet No. 5B.05

Eighth Revised Sheet No. 5B.06

Ninth Revised Sheet No. 5B.07

Sixth Revised Sheet No. 5B.08

Third Revised Sheet No. 5B.09

Third Revised Sheet No. 5B.10

First Revised Sheet No. 5B.11

First Revised Sheet No. 5B.12

Transwestern states that the above sheets are being filed to implement specific negotiated rate agreements with Sempra Energy Trading Corp. and Calpine Energy Services, L.P. in accordance with the Commission's Policy Statement on Alternatives to Traditional Cost-of-Service Ratemaking for Natural Gas Pipelines. Transwestern states that the above referenced tariff sheets have been revised to reflect the new negotiated rate contract information. Transwestern also has removed the contract information and footnotes attributable to negotiated rates that have expired. Transwestern has also consolidated information into footnote 1 to avoid repetitive language on alternate receipt and delivery points. Finally, Transwestern has added has added the term of each negotiated rate as suggested by the Indicated Shippers in their protest in Docket No. RP97-288-020.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-17390 Filed 7-10-02; 8:45 am]

BILLING CODE 6717-01-M